DEPARTMENT OF HEALTH AND HUMAN SERVICES

Centers for Medicare & Medicaid Services

[Document Identifier: CMS-10014]

Agency Information Collection Activities: Proposed Collection; Comment Request

AGENCY: Centers for Medicare & Medicaid Services, HHS.

In compliance with the requirement of section 3506(c)(2)(A) of the Paperwork Reduction Act of 1995, the Centers for Medicare & Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Informatics, Telemedicine, and Education Demonstration Project; Form No.: CMS-10014 (OMB# 0938-0806); Use: The Informatics, Telemedicine and Education Demonstration Project studies the use of advanced computer and telecommunication technology in the collection of data for diabetes management. It aims to demonstrate the feasibility of a large-scale Web-based system for electronic delivery of health care services that complies with the date security requirements of the Health Insurance Portability and Accountability Act (HIPAA); assess impacts of telemedicine on the process of care for Medicare beneficiaries with diabetes; assess impacts on diabetes related health outcomes; and assess the cost-effectiveness of the telemedicine intervention. The information collection seeks approval for an extension as the demonstration project enters Phase 2. Phase 2 of the project employs new advanced technologies to reduce the public burden associated with the information collection, while maintaining, to the extent possible, continuity of design, eligibility criteria, recruitment and enrollment, intervention, and data collection procedures already established in Phase 1.; Frequency: Semi-Annually; Affected Public: Business or other not-for-profit, Individuals or households; Number of Respondents: 4,100; Total Annual Responses: 7,094; Total Annual Hours: 12,379.

To obtain copies of the supporting statement and any related forms for the proposed paperwork collections referenced above, access CMS's Web site address at http://www.cms.hhs.gov/regulations/pra, or e-mail your request, including your address, phone number, OMB number, and CMS document identifier, to Paperwork@hcfa.gov, or call the Reports Clearance Office on (410) 786-1326. Written comments and recommendations for the proposed information collections must be mailed within 60 days of this notice directly to the CMS Paperwork Clearance Officer designated at the following address: CMS, Office of Strategic Operations and Regulatory Affairs, Division of Regulations Development, Attention: William N. Parham, III, Mailstop: C4-26-05, 7500 Security Boulevard, Baltimore, Maryland 21244-1850.

Dated: February 18, 2005.
John P. Burke, III,
CMS Paperwork Reduction Act Reports Clearance Officer, Office of Strategic Operations and Regulatory Affairs, Regulations Development Group.

[FR Doc. 05-4167 Filed 3-3-05; 8:45 am]

BILLING CODE 4120-03-P